ENVIRONMENTAL PROTECTION AGENCY

40 CFR Part 62

[EPA-R04-OAR-2010-0840(b); FRL-9298-8]

Approval and Promulgation of State Plans for Designated Facilities and Pollutants: Florida; Jefferson County, KY; Forsyth, Mecklenburg, and Buncombe Counties, NC; and SC

AGENCY: Environmental Protection Agency (EPA).

ACTION: Proposed rule.

SUMMARY: EPA is notifying the public that it has received negative declarations for Other Solid Waste Incinerator (OSWI) units from the State of Florida; Large Municipal Waste Combustor (LMWC), Small Municipal Waste Combustor (SMWC), and OSWI units from Jefferson County, Kentucky; LMWC, SMWC, and OSWI units from Forsyth County, North Carolina; LMWC, SMWC, and OSWI units from Mecklenburg County, North Carolina; LMWC, SMWC, Hospital/Medical/Infectious Waste Incinerator (HMIWI), and OSWI units from Buncombe County, North Carolina; and LMWC and HMIWI units from the State of South Carolina. These negative declarations certify that LMWC, SMWC, HMIWI, and OSWI units, as indicated above, subject to the requirements of Sections 111(d) and 129 of the Clean Air Act do not exist in areas covered by the following air pollution control programs: Florida Department of Environmental Protection; Louisville, Kentucky, Air Pollution Control District; Forsyth County Environmental Affairs Department; Mecklenburg County Land Use and Environmental Services Agency; Western North Carolina Regional Air Quality Agency; and South Carolina Department of Health and Environmental Control. In the Final Rules section of this Federal Register, EPA is publishing these negative declaration submittals as a direct final rule without prior proposal because the Agency views this as a noncontroversial submittal and anticipates no adverse comments.

DATES: Comments must be received in writing by May 25, 2011.

ADDRESSES: Submit your comments, identified by Docket ID Number EPA-R04-OAR-2010-0840 by one of the following methods:

1. http://www.regulations.gov. Follow the on-line instructions for submitting comments.

2. E-mail: garver.daniel@epa.gov.

3. Fax: (404) 562-9095.

4. Mail: EPA-R04-OAR-2010-0840, Daniel Garver, U.S. Environmental Protection Agency, Region 4, 61 Forsyth Street, SW., Atlanta, Georgia 30303.

5. Hand Delivery or Courier: Mr. Daniel Garver, Air Toxics Assessment and Implementation Section, Air Toxics and Monitoring Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 a.m. to 4:30 p.m., excluding federal holidays.

Please see the direct final rule which is located in the Rules section of this Federal Register for detailed instructions on how to submit comments.

FOR FURTHER INFORMATION CONTACT: Daniel Garver, Air Toxics and Monitoring Branch, Air, Pesticides and Toxics Management Division, U.S. Environmental Protection Agency, Region 4, 61 Forsyth Street, SW., Atlanta, Georgia 30303-8960. The telephone number is (404) 562-9839. Mr. Garver can also be reached via electronic mail at garver.daniel@epa.gov.

SUPPLEMENTARY INFORMATION: For additional information see the direct final rule which is published in the Rules Section of this Federal Register. If no adverse comments are received in response to this rule, no further activity is contemplated. If EPA receives adverse comments, the direct final rule will be withdrawn and all public comments received will be addressed in a subsequent final rule based on this proposed rule. EPA will not institute a second comment period on this document. Any parties interested in commenting on this document should do so at this time.

Dated: January 13, 2011.
A. Stanley Meiburg,
Acting Regional Administrator, Region 4.

[FR Doc. 2011-9848 Filed 4-22-11; 8:45 am]

BILLING CODE 6560-50-P